DEPARTMENT OF COMMERCE

National Oceanic and Atmospheric Administration

RIN 0648-XW91

Marine Mammals; File No. 15261

AGENCY: National Marine Fisheries Service (NMFS), National Oceanic and Atmospheric Administration (NOAA), Commerce.

ACTION: Notice; issuance of permit.

SUMMARY: Notice is hereby given that Paul Ponganis, Ph.D., University of California at San Diego, La Jolla, CA 92093, has been issued a permit to conduct research on leopard seals (Hydruga leptonyx) in Antarctica.

ADDRESSES: The permit and related documents are available for review upon written request or by appointment in the following office(s):

Permits, Conservation and Education Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018.

FOR FURTHER INFORMATION CONTACT: Kate Swails or Amy Sloan, (301)713-2289.

SUPPLEMENTARY INFORMATION: On March 10, 2010, notice was published in the Federal Register (75 FR 11132) that a request for a permit to conduct research had been submitted by the above-named applicant. The requested permit has been issued under the authority of the Marine Mammal Protection Act of 1972, as amended (16 U.S.C. 1361 et seq.), and the regulations governing the taking and importing of marine mammals (50 CFR part 216).

The permit authorizes Dr. Ponganis to study the foraging behavior of leopard seals at Cape Washington, Antarctica. Backpack digital cameras and time depth recorders will be deployed on up to five leopard seals annually over five years (no more than ten seals successfully instrumented total) to document diving and foraging behavior near the emperor penguin colony, and, for the first time, construct time-activity budgets and prey intake rates of these seals. The permit is issued for five years.

In compliance with the National Environmental Policy Act of 1969 (42 U.S.C. 4321 et seq.), a final determination has been made that the activity proposed is categorically excluded from the requirement to prepare an environmental assessment or environmental impact statement.

Dated: June 17, 2010.
P. Michael Payne,
Chief, Permits, Conservation and Education Division, Office of Protected Resources, National Marine Fisheries Service.

[FR Doc. 2010-15062 Filed 6-21-10; 8:45 am]

BILLING CODE 3510-22-S